DEPARTMENT OF THE TREASURY

Submission for OMB Review; Comment Request

May 31, 2001.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 9, 2001.

Internal Revenue Service (IRS)

OMB Number: 1545-0786.

Regulation Project Number: INTL-50-86 Final (TD 8110).

Type of Review: Extension.

Title: Sanctions on Issuers and Holders of Registration-Required Obligations Not in Registered Form.

Description: The Internal Revenue Service needs the information in order to ensure that purchasers of bearer obligations are not U.S. persons (other than those permitted to hold obligations under section 165(j) and to ensure that U.S. persons holding bearer obligations properly report income and gain on such obligations. The people reporting will be institutions holding bearer obligations.

Respondents: Business or other for-profit.

Estimated Number of Respondents: 1,000.

Estimated Burden Hours Per Respondent: 3 minutes.

Frequency of Response: On occasion.

Estimated Total Reporting Burden: 39,742 hours.

OMB Number: 1545-0823.

Regulation Project Number: FI-221-83 NPRM and FI-100-83 Temporary.

Type of Review: Extension.

Title: Indian Tribal Governments Treated as States for Certain Purposes.

Description: The regulations provide that if the governing body of a tribe, or its subdivision, is not designated as an Indian tribal government or subdivision thereof for purpose of section 7701(a)(40) and 7871, it may apply for a ruling from the IRS.

Respondents: State, Local or Tribal Government.

Estimated Number of Respondents: 25.

Estimated Burden Hours Per Respondent: 1 hour.

Frequency of Response: Other (once).

Estimated Total Reporting Burden: 25 hours.

OMB Number: 1545-1081.

Form Number: IRS Form 8809.

Type of Review: Extension.

Title: Request for Extension of Time To File Information Returns.

Description: Form 8809 is used to request an extension of time to file certain information returns. It is used by IRS to process requests expeditiously and to track from year to year those who repeatedly ask for an extension.

Respondents: Business or other for-profit, Individuals or households, Not-for-profit institutions, Farms, Federal Government, State, Local or Tribal Government.

Estimated Number of Respondents/Recordkeepers: 50,000.

Estimated Burden Hours Per Respondent/Recordkeeper:

Recordkeeping—2 hrs., 3 min.

Learning about the law or the form—9 min.

Preparing and sending the form to the IRS—26 min.

Frequency of Response: On occasion.

Estimated Total Reporting/Recordkeeping Burden: 132,500 hours.

OMB Number: 1545-1132.

Regulation Project Number: INTL-536-89 Final.

Type of Review: Extension.

Title: Registration Requirements with Respect to Certain Debt Obligations; Application of Repeal of 30 Percent Withholding by the Tax Reform Act of 1984.

Description: The Internal Revenue Service needs the information in order to ensure that purchasers of bearer obligations are not U.S. persons (other than those permitted to hold obligations under section 165(j) and to ensure that U.S. persons holding bearer obligations properly report income and gain on such obligations.

Respondents: Business or other for-profit.

Estimated Number of Respondents/Recordkeepers: 5,000.

Estimated Burden Hours Per Respondent/Recordkeeper: 10 minutes.

Frequency of Response: On occasion, Annually.

Estimated Total Reporting/Recordkeeping Burden: 852 hours.

OMB Number: 1545-1728.

Regulation Project Number: REG-114082-00 NPRM and REG-109707-97 Temp and Final.

Type of Review: Extension.

Title: HIPAA Nondiscrimination (REG-114082-00); and Interim Final Rules for Nondiscrimination in Health Coverage in the Group Market (REG-109707-97).

Description: This regulation requires group health plans, and the employers and employee organizations that sponsor them, to provide a notice to individuals previously discriminated against based on a health factor, informing the individuals of their right to enroll in the plan without regard to their health. The notice is necessary so that these individuals will now that they have the right to enroll in the plan.

Respondents: Business or other for-profit, Not-for-profit institutions.

Estimated Number of Respondents: 120,000.

Estimated Burden Hours Per Respondent: 3 minutes.

Frequency of Response: Other (one time by July 2001).

Estimated Total Reporting/Recordkeeping Burden: 5,950 hours.

Clearance Officer: Garrick Shear, Internal Revenue Service,Room 5244, 1111 Constitution Avenue, NW., Washington, DC 20224

OMB Reviewer: Alexander T. Hunt, (202) 395-7860,Office of Management and Budget, Room 10202, New Executive Office Building, Washington, DC 20503.

Lois K. Holland,
Departmental Reports, Management Officer.

[FR Doc. 01-14305 Filed 6-6-01; 8:45 am]

BILLING CODE 4830-01-P